DEPARTMENT OF ENERGY

Federal Energy Regulatory Commission

[Docket No. CP22-17-000]

Rio Grande LNG, LLC; Notice of Effectiveness of Withdrawal of Application To Amend Section 3 Authorization

On November 17, 2021, Rio Grande LNG, LLC filed an application pursuant to section 3 of the Natural Gas Act ¹ and Part 153 of the Commission's regulations ² to amend its authorization for the Rio Grande Liquified Natural Gas Terminal to incorporate a carbon capture and sequestration system. On August 20, 2024, Rio Grande LNG, LLC filed a notice of withdrawal of its application.

¹ 15 U.S.C. 717b.

² 18 CFR 153 (2023).

No motion in opposition to the notice of withdrawal has been filed, and the Commission has taken no action to disallow the withdrawal. Pursuant to Rule 216(b) of the Commission's Rules of Practice and Procedure,³ the withdrawal of the application became effective on September 4, 2024, and this proceeding is hereby terminated.

³ 18 CFR 385.216(b) (2023).

Dated: September 10, 2024.
Debbie-Anne A. Reese,
Acting Secretary.

[FR Doc. 2024-21021 Filed 9-16-24; 8:45 am]

BILLING CODE 6717-01-P